Title 3—

The President

Proclamation 7599 of October 1, 2002

National Breast Cancer Awareness Month, 2002

By the President of the United States of America

A Proclamation

During National Breast Cancer Awareness Month, we recognize the progress being made towards a cure for this disease, which robs so many women of their health and, in too many cases, their lives. This year, an estimated 203,000 American women will be diagnosed with breast cancer, and almost 40,000 will die. Although we have made great medical strides in understanding breast cancer, much remains to be done to advance prevention, early detection, and effective treatment.

Regular screenings remain the most effective way to identify breast cancer in its earliest and most treatable stages. For women 40 and over, having mammograms every 1 to 2 years can reduce the risk of dying from breast cancer. To ensure mammography is available to all American women, the Centers for Disease Control and Prevention (CDC) provides screening and treatment services through the National Breast and Cervical Cancer Early Detection Program. Now in its 12th year, this Program has offered free and low-cost mammograms to almost 1.5 million low-income and minority women across our country.

In addition, the Federal Breast and Cervical Cancer Prevention and Treatment Act allows States to expand Medicaid coverage to low-income, uninsured women who were screened through the CDC program and found to need treatment for breast or cervical cancer. To date, the Department of Health and Human Services has approved this Medicaid eligibility in 45 States.

To prevent breast cancer, we must increase awareness of its risk factors and causes. Age and genetic factors have been shown to increase the risk of breast cancer. And researchers are now exploring how diet and hormonal factors are linked to possible causes. This information will help women and their doctors make informed health care choices.

My Administration continues to support research efforts to discover a cure and advance our understanding of breast cancer. The National Cancer Institute invested more than $475 million last year on breast cancer research, and we will devote an estimated $535.8 million this year and approximately $604.3 million next year. In addition to these important funding increases taken by my Administration, Americans have raised more than $23 million over the past 4 years by purchasing the Breast Cancer Research stamp, which will be available until December 31, 2003, from the United States Postal Service. I also commend all of the private and nonprofit groups, especially everyone who has worked on the Susan G. Komen Race for the Cure, for all their efforts and contributions in the fight against breast cancer.

Much of this funding is directed towards clinical trials dedicated to finding new and more effective ways of preventing, detecting, and treating breast cancer. America is grateful to the brave and generous women who help fight this disease by participating in clinical trials. Researchers rely on these courageous patients, who help us learn about the safety and effectiveness of new approaches of treatment and, in doing so, bring us closer to eliminating this terrible disease.

NOW, THEREFORE, I, GEORGE W. BUSH, President of the United States of America, by virtue of the authority vested in me by the Constitution and laws of the United States, do hereby proclaim October 2002 as National Breast Cancer Awareness Month. I call upon government officials, businesses, communities, healthcare professionals, educators, volunteers, and all the people of the United States to publicly reaffirm our Nation's strong and continuing commitment to controlling and curing breast cancer.

IN WITNESS WHEREOF, I have hereunto set my hand this first day of October, in the year of our Lord two thousand two, and of the Independence of the United States of America the two hundred and twenty-seventh.

B

[FR Doc. 02-25466

Filed 10-3-02; 8:45 am]

Billing code 3195-01-P